DEPARTMENT OF ENERGY

Federal Energy Regulatory Commission

[Docket No. IC16-16-000]

Commission Information Collection Activities (FERC-577); Comment Request; Extension

AGENCY: Federal Energy Regulatory Commission, Department of Energy.

ACTION: Notice of information collection and request for comments.

SUMMARY: In compliance with the requirements of the Paperwork Reduction Act of 1995, 44 U.S.C. 3506(c)(2)(A), the Federal Energy Regulatory Commission (Commission or FERC) is soliciting public comment on the currently approved information collection, FERC-577 (Natural Gas Facilities: Environmental Review and Compliance).

DATES: Comments on the collection of information are due October 18, 2016.

ADDRESSES: You may submit comments (identified by Docket No. IC16-16-000) by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION:

Title: FERC-577, Gas Pipeline Certificates: Environmental Impact Statement.

OMB Control No.: 1902-0128.

Type of Request: Three-year extension of the FERC-577 information collection requirements with no changes to the current reporting requirements.

Abstract: The FERC-577 information collection contains the Commission's information collections pertaining to 18 CFR Parts: 2, 157, 284, and 380. These regulations implement National Environmental Policy Act (NEPA) and include the environmental compliance conditions portions of the same regulations. The FERC-577 also includes the reporting requirements for landowner notifications. These requirements are contained within 18 CFR Parts: 2.55(b), 157.203(d), 380.15, and 2.55(a).

Type of Respondents: Gas pipelines.

Estimate of Annual Burden: ¹ The Commission estimates the annual public reporting burden and cost (rounded) for the information collection as:

¹ The Commission defines burden as the total time, effort, or financial resources expended by persons to generate, maintain, retain, or disclose or provide information to or for a Federal agency. For further explanation of what is included in the information collection burden, reference 5 Code of Federal Regulations 1320.3.

FERC-577
[Natural gas facilities: environmental review and compliance]
| Number of respondents | Annual number of responses per respondent | Total number of responses | Average burden & cost per response ² | Total annual burden hours & total annual cost | Cost per respondent ($)
| (1) | (2) | (1) * (2) = (3) | (4) | (3) * (4) = (5) | (5) ÷ (1)
Gas Pipeline Certificates ³ | 92 | 16 | 1,472 | 193.518 hrs.; $14,417 | 284,858 hrs.; $21,221,824 | $230,672
Landowner Notification ⁴ | 165 | 144 | 23,760 | 2 hrs.; $149 | 47,520 hrs.; $3,540,240 | 21,456
Total |  |  | 25,232 |  | 332,378 hrs.; 24,762,064 |

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

² The estimates for cost per response are derived using the following formula: Average Burden Hours per Response * $74.50 per Hour = Average Cost per Response. The Commission staff believes that the industry's level and skill set are comparable to FERC, so the FERC 2016 average hourly cost (for salary plus benefits) of $74.50 per hour is used.

³ Requirements are found in 18 CFR Parts: 157, 284, 2, and 380.

⁴ Requirements are found in 18 CFR Parts: 2.55(b), 157.203(d), 380.15, and 2.55(a).

Dated: August 15, 2016.
Kimberly D. Bose,
Secretary.

[FR Doc. 2016-19777 Filed 8-18-16; 8:45 am]

BILLING CODE 6717-01-P